DEPARTMENT OF COMMERCE

International Trade Administration

[A-351-837, A-533-828, A-588-068, A-580-852, A-201-831, A-549-820]

Prestressed Concrete Steel Wire Strand From Brazil, India, Japan, the Republic of Korea, Mexico, and Thailand: Final Results of the Expedited Sunset Reviews of the Antidumping Duty Finding/Orders

AGENCY: Enforcement and Compliance, International Trade Administration, Department of Commerce.

SUMMARY: The Department of Commerce (the Department) finds that revocation of the antidumping duty finding/orders on prestressed concrete steel wire strand (PC strand) from Brazil, India, Japan, the Republic of Korea, Mexico, and Thailand would be likely to lead to continuation or recurrence of dumping as indicated in the “Final Results of Sunset Review” section of this notice.

DATES: Effective Date: March 17, 2015.

FOR FURTHER INFORMATION CONTACT: Michael Romani or Minoo Hatten, AD/CVD Operations, Office I, Enforcement and Compliance, International Trade Administration, U.S. Department of Commerce, 14th Street and Constitution Avenue NW., Washington, DC 20230; telephone: (202) 482-0198 or (202) 482-1690, respectively.

SUPPLEMENTARY INFORMATION:

Background

On November 3, 2014, the Department published the notice of initiation of the sunset reviews of the antidumping duty finding ¹ orders on PC strand from Brazil, India, Japan, the Republic of Korea (Korea), Mexico, and Thailand pursuant to section 751(c) of the Tariff Act of 1930, as amended (the Act).²

¹ On December 8, 1978, the Department of the Treasury published the antidumping duty finding, which is equivalent to an antidumping duty order published after 1980, on PC strand from Japan. See Steel Wire Strand for Prestressed Concrete from Japan: Finding of Dumping, 43 FR 57599 (December 8, 1978).

² See Initiation of Five-year (“Sunset”) Review, 79 FR 65186 (November 3, 2014) (Initiation Notice).

In accordance with 19 CFR 351.218(d)(1)(i), the Department received notices of intent to participate in these sunset reviews from Insteel Wire Products Company and Sumiden Wire Products Corp. (collectively, the domestic interested parties) within 15 days after the date of publication of the Initiation Notice and the effective date of the initiation of this sunset review.³ The domestic interested parties claimed interested party status under section 771(9)(C), of the Act.

³ See Notices of Intent to Participate in Brazil, India, Japan, Korea, Mexico, and Thailand Sunset Reviews (November 17, 2014).

The Department received complete substantive responses to the Initiation Notice from the domestic interested parties within the 30-day period specified in 19 CFR 351.218(d)(3)(i). The Department received no substantive responses from any respondent interested parties. In accordance with section 751(c)(3)(B) of the Act and 19 CFR 351.218(e)(1)(ii)(C)(2), the Department conducted expedited (120-day) sunset reviews of the antidumping duty finding/orders on PC strand from Brazil, India, Japan, Korea, Mexico, and Thailand.

Scope of the Finding/Orders

The product covered in the sunset reviews of the antidumping duty orders on PC strand from Brazil, India, Korea, Mexico, and Thailand is steel strand produced from wire of non-stainless, non-galvanized steel, which is suitable for use in prestressed concrete (both pre-tensioned and post-tensioned) applications. The product definition encompasses covered and uncovered strand and all types, grades, and diameters of PC strand.

The product covered in the sunset review of the antidumping duty finding on PC strand from Japan is steel wire strand, other than alloy steel, not galvanized, which is stress-relieved and suitable for use in prestressed concrete.

The merchandise subject to the finding/orders is currently classifiable under subheadings 7312.10.3010 and 7312.10.3012 of the Harmonized Tariff Schedule of the United States (HTSUS). Although the HTSUS subheadings are provided for convenience and customs purposes, the written description of the merchandise under the finding/orders is dispositive. A full description of the scope of the order is contained in the Issues and Decision Memorandum.⁴

⁴ See memorandum to Paul Piquado entitled “Issues and Decision Memorandum for the Expedited Sunset Reviews of the Antidumping Duty Finding/Orders on Prestressed Concrete Steel Wire Strand from Brazil, India, Japan, the Republic of Korea, Mexico, and Thailand,” dated concurrently with and hereby adopted by this notice (Issues and Decision Memorandum).

Analysis of Comments Received

A complete discussion of all issues raised in these reviews are addressed in the accompanying Issues and Decision Memorandum, which is hereby adopted by this notice, including the likelihood of continuation or recurrence of dumping in the event of revocation and the magnitude of dumping margins likely to prevail if the finding/orders were revoked. The Issues and Decision Memorandum is a public document and is on file electronically via Enforcement and Compliance's Antidumping and Countervailing Duty Centralized Electronic Service System (ACCESS).⁵ ACCESS is available to registered users at http://access.trade.gov and to all parties in the Central Records Unit in Room 7046 of the main Department of Commerce building. In addition, a complete version of the Issues and Decision Memorandum can be accessed directly on the internet at http://enforcement.trade.gov/frn/index.html.

⁵ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Final Results of Reviews

Pursuant to sections 751(c)(1) and 752(c)(1) and (2) of the Act, we determine that revocation of the antidumping duty finding/orders on PC strand from Brazil, India, Japan, Mexico, Korea, and Thailand would be likely to lead to continuation or recurrence of dumping up to the following weighted-average margin percentages:

Country | Weighted- average margin (percent)
Brazil | 118.75
India | 102.07
Japan | 13.30
Korea | 54.19
Mexico | 77.20
Thailand | 12.91

Notification to Interested Parties

This notice serves as the only reminder to parties subject to administrative protective orders (APO) of their responsibility concerning the disposition of proprietary information disclosed under APO in accordance with 19 CFR 351.305. Timely written notification of the destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: March 3, 2015.
Paul Piquado,
Assistant Secretary for Enforcement and Compliance.

[FR Doc. 2015-05815 Filed 3-16-15; 8:45 am]

BILLING CODE 3510-DS-P